INTERNATIONAL TRADE COMMISSION

[Investigation Nos. 701-TA-534-538 and 731-TA-1274-1278 (Final)]

Certain Corrosion-Resistant Steel Products From China, India, Italy, Korea, and Taiwan: Revised Hearing Schedule

AGENCY: United States International Trade Commission.

ACTION: Notice.

DATES: Effective April 28, 2016.

FOR FURTHER INFORMATION CONTACT: Mary Messer (202-205-3193), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: Effective January 4, 2016, the Commission established a schedule for the conduct of the final phase of the subject investigations (81 FR 7585, February 12, 2016). The Commission is revising its schedule by changing the time of the hearing. The Commission's hearing will be held at the U.S. International Trade Commission Building at 10:00 a.m. on May 26, 2016. All other aspects of the schedule are unchanged.

For further information concerning these investigations see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Dated: May 3, 2016.
Lisa R. Barton,
Secretary to the Commission.

[FR Doc. 2016-10742 Filed 5-6-16; 8:45 am]

BILLING CODE 7020-02-P